DEPARTMENT OF JUSTICE

Office of Juvenile Justice and Delinquency Prevention

[OMB Number 1121-0291]

Agency Information Collection Activities: Proposed Collection; Comments Requested

ACTION: 60-day notice of information collection under review: National Juvenile Probation Census Project.

The Department of Justice (DOJ), Office of Justice Programs, Office of Juvenile Justice and Delinquency Prevention, will be submitting the following information collection request to the Office of Management and Budget (OMB) for review and approval in accordance with the Paperwork Reduction Act of 1995. The proposed information collection is published to obtain comments from the public and affected agencies. Comments are encouraged and will be accepted for “sixty days” until December 10, 2007. This process is conducted in accordance with 5 CFR 1320.10.

If you have comments especially on the estimated public burden or associated response time, suggestions, or need a copy of the proposed information collection instrument with instructions or additional information, please contact Janet Chiancone, (202) 353-9258, Office of Juvenile Justice and Delinquency Prevention, Office of Justice Programs, U.S. Department of Justice, 810 Seventh Street, NW., Washington, DC 20531.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New.

(2) Title of the Form/Collection: National Juvenile Probation Census Project which consists of two forms: Census of Juvenile Probation Supervision Offices (CJPSO) and Census of Juveniles on Probation (CJP).

(3) Agency Form Number, if any, and the applicable component of the Department of Justice sponsoring the collection: Form Numbers: CJ-16 (CJPSO) and CJ-17 (CJP). Office of Juvenile Justice and Delinquency Prevention, Office of Justice Programs, U.S. Department of Justice.

(4) Affected Public who will be asked or required to respond, as well as a brief abstract: Primary: State, Local or Tribal Governments. Other: N/A. This project consists of two forms that will be sent to juvenile geographic probation supervision areas (GPSAs), on alternate years. The CJPSO will collect information regarding the activities of juvenile probation offices nationwide; the CJP will collect information regarding the number and characteristics of juveniles on probation.

(5) An estimate of the total number of respondents and the amount of time estimated for an average respondent to respond: There are 2 collections associated with this project: The Census of Juvenile Probation Supervision Offices (CJPSO) and the Census of Juveniles on Probation (CJP). The CJPSO response burden is estimated at 1 hour per response. The universe for the CJPSO is all Juvenile Probation Supervision Offices in the U S (1,715 offices). The response burden for the CJP is estimated at 4 hours per response. The sample for the CJP is 500 Juvenile Probation Supervision Offices.

(6) An estimate of the total public burden (in hours) associated with the collection: The public burden hours for the CJPSO are 1,715 hours (1,715 Juvenile Probation Supervision Offices × 1 hour each). The public burden for the CJP is 2,500 hours (500 Juvenile Probation Supervision Offices × 5 hours each). The total public burden hours associated with the CJPSO and the CJP are: 4,215 hours (1,715 hours + 2,500 hours).

If additional information is required contact: Lynn Bryant, Department Deputy Clearance Officer, Information Management and Security Staff, Justice Management Division, Department of Justice, Patrick Henry Building, Suite 1600, 601 D Street, NW., Washington, DC 20530.

Dated: October 4, 2007.
Lynn Bryant,
Department Clearance Officer, PRA, Department of Justice.

[FR Doc. E7-20054 Filed 10-10-07; 8:45 am]

BILLING CODE 4410-18-P